NUCLEAR REGULATORY COMMISSION

[NRC-2009-0476]

Reliability Assurance Program

AGENCY: Nuclear Regulatory Commission.

ACTION: Interim staff guidance; withdrawal.

SUMMARY: The U.S. Nuclear Regulatory Commission (NRC) is announcing the withdrawal of Design Certification (DC) and Combined License (COL) Interim Staff Guidance (ISG) No. 18 (DC/COL-ISG-018), Revision 0, “Interim Staff Guidance on Standard Review Plan, Section 17.4, `Reliability Assurance Program.' ”

DATES: The effective date of withdrawal of this ISG is July 10, 2014.

ADDRESSES: Please refer to Docket ID NRC-2009-0476 when contacting the NRC about the availability of information regarding this document. You may access publicly-available information related to this document using any of the following methods:

• Federal Rulemaking Web site: Go to http://www.regulations.gov and search for Docket ID NRC-2009-0476. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. DC/COL-ISG-018, Revision 0 is available electronically under ADAMS Accession No. ML103010113.

• NRC's PDR: You may examine and purchase copies of public documents at the NRC's PDR, Room O1-F21, One White Flint North, 11555 Rockville Pike, Rockville, Maryland 20852.

FOR FURTHER INFORMATION CONTACT: Jonathan DeGange, telephone: 301-415-6992; email: Jonathan.DeGange@nrc.gov, Office of New Reactors, U.S. Nuclear Regulatory Commission, Washington, DC 20555-0001.

SUPPLEMENTARY INFORMATION:

I. Background

DC/COL-ISG-018 was issued in October 2009 to provide clarification and guidance on the application of Section 17.4, “Reliability Assurance Program,” of NUREG-0800, “Standard Review Plan for the Review of Safety Analysis Reports for Nuclear Power Plants.” The staff issued DC/COL-ISG-018 to provide clear guidance for performing safety reviews of the Reliability Assurance Program (RAP). DC/COL-ISG-018 clarified the acceptance criteria and evaluation findings contained in Standard Review Plan (SRP) Section 17.4 in support of the NRC reviews of the DC and COL applications. The ISG also made changes to the roles and responsibilities of individual branches in the Office of New Reactors that review the RAP.

II. Discussion

The staff published a notice of solicitation for public comment on DC/COL-ISG-018 on October 30, 2009 (74 FR 56243). The staff considered comments received and then issued the final guidance on March 28, 2011 (76 FR 17159). The staff has since updated SRP Section 17.4 and issued the revised section for use and comment on June 11, 2013 (78 FR 35072). At this time the staff plans to finalize this guidance in June 2014. As anticipated in DC/COLISG-018, this guidance has been incorporated in SRP Section 17.4 and the NRC staff is withdrawing DC/COL-ISG-018.

Dated at Rockville, Maryland, this 30th day of May 2014.
For the Nuclear Regulatory Commission.
Joseph Colaccino,
Branch Chief, Policy Branch, Division of Advanced Reactors and Rulemaking, Office of New Reactors.

[FR Doc. 2014-13515 Filed 6-9-14; 8:45 am]

BILLING CODE 7590-01-P